DEPARTMENT OF HEALTH AND HUMAN SERVICES

National Institutes of Health

National Heart, Lung, and Blood Institute; Amended Notice of Meeting

Notice is hereby given of a change in the meeting of the National Heart, Lung, and Blood Institute Special Emphasis Panel, Mentored Career Development K-Awards, March 28, 2024, 11 a.m. to 3 p.m., National Institutes of Health, Rockledge 1, 6705 Rockledge Drive, Bethesda, MD 20892, which was published in the Federal Register on February 20, 2024, FR Doc 2024-03384, 89 FR 12850.

The meeting is being amended due to a change in time from 11 a.m.-3 p.m. to 10:30 a.m.-2:30 p.m. This meeting format will be a video assisted, and is closed to the public in accordance with provisions set forth in sections 552b(c)(4) and 552b(c)(6).

Dated: March 19, 2024.
Melanie J. Pantoja,
Program Analyst, Office of Federal Advisory Committee Policy.

[FR Doc. 2024-06227 Filed 3-22-24; 8:45 am]

BILLING CODE 4140-01-P